DEPARTMENT OF JUSTICE

Notice of Lodging of Consent Decree Pursuant to the Clean Water Act

In accordance with Departmental Policy, 28 C.F.R. 50.7, notice is hereby given that a proposed consent decree in United States v. TE Products Pipeline Company, LLC and TEPPCO Crude Pipeline, LLC (E.D. Tex.), No. 1:07-CV-0569-TH, was lodged in the United States District Court for the Eastern District of Texas on August 15, 2007. The Decree will resolve the liability of the named Defendants to the United States for civil penalties and injunctive relief for their violations of Sections 301 and 311(b)(3) of the Clean Water Act (“CWA”), 33 U.S.C. 1311 and 1321(b)(3), resulting from spills of crude and refined petroleum products from Defendants' pipelines in four separate spill events dated November 27, 2001, March 12, 2004, February 28, 2005, and May 13, 2005, at locations in Texas, Arkansas, and Oklahoma.

Under the proposed Consent Decree, Defendants are jointly and severally liable to perform injunctive relief on the impacted pipelines and pay a civil penalty. Specifically, Defendants will (a) conduct a close interval survey of a segment of the pipeline system from Beaumont, Texas to Many, Louisiana, and take corrective action to bring the cathodic protection into compliance with standards, (b) install remote surveillance cameras at specified points on the pipeline to ensure constant monitoring of pipeline systems and provide surveillance of the pipeline system equipment, and (c) update the Supervisory Control and Data Acquisition (‘SCADA”) system on the pipeline system to enable Defendants to monitor and balance the volume of product in the pipeline and pipeline pressure and temperature deviations which can be indicators of leaks or spills from the pipeline. Additionally, Defendants will pay a civil penalty of $2,865,000 for the four spills.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States v. TE Products Pipeline Company, LLC and TEPPCO Crude Pipeline, LLC, DOJ #90-5-1-1-08194. The proposed Consent Decree may be examined at the Office of the United States Attorney, Eastern District of Texas, 350 Magnolia Avenue, Suite 150, Beaumont, TX 77701-2237, and at U.S. EPA REgion 6, 1445 Ross Avenue, Suite 1200, Dallas, Texas, 75202. During the public comment period, the proposed Consent Decree may also be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $7.75 for the Consent Decree (25 cents per page reproduction cost) payable to the U.S. Treasury, or if by e-mail or fax, forward a check in that amount to the Consent Decree Library at the stated address.

Thomas Mariani,
Assistant Section Chief, Environmental Enforcement Section, Environment and Natural Resources Division.

[FR Doc. 07-4089 Filed 8-20-07; 8:45 am]

BILLING CODE 4410-15-M